DEPARTMENT OF TRANSPORTATION

Federal Aviation Administration

14 CFR Part 71

[Docket No. FAA-2008-1076; Airspace Docket No. 08-ANE-102]

Amendment to Class E Airspace; Rutland, VT

AGENCY: Federal Aviation Administration (FAA), DOT.

ACTION: Direct final rule, confirmation of effective date.

SUMMARY: This action confirms the effective date of a direct final rule that amends the Class E Airspace at Rutland-Southern Vermont Regional (RUT); Rutland, VT to provide adequate controlled airspace for those aircraft using Instrument Approach Procedures to the airport. The action became necessary due to the decommissioning of the IRA NDB and new Standard Instrument Approach Procedures (SIAPs) being developed for Rutland-Southern Vermont Regional Airport. This rule also imparts a technical amendment to change the name of the airport from Rutland State Airport to Rutland-Southern Vermont Regional.

DATES: Effective Date: 0901 UTC, May 6, 2009. The Director of the Federal Register approves this incorporation by reference action under Title 1, Code of Federal Regulations, part 51, subject to the annual revision of FAA Order 7400.9 and publication of conforming amendments.

FOR FURTHER INFORMATION CONTACT: Melinda Giddens, Operations Support Group, Eastern Service Center, Federal Aviation Administration, P.O. Box 20636, Atlanta, Georgia 30320: telephone (404) 305-5610.

SUPPLEMENTARY INFORMATION:

Confirmation of Effective Date

The FAA published this direct final rule with a request for comments in the Federal Register on December 15, 2008 (73 FR 75936), Docket No. FAA-2008-1076; Airspace Docket No. 08-ANE-102. The FAA uses the direct final rulemaking procedure for a non-controversial rule where the FAA believes that there will be no adverse public comment. This direct final rule advised the public that no adverse comments were anticipated, and that unless a written adverse comment, or a written notice of intent to submit such an adverse comment, were received within the comment period, the regulation would become effective on March 12, 2009. No adverse comments were received, and thus this notice confirms that effective date.

Issued in College Park, Georgia, on April 22, 2009.
Barry A. Knight,
Manager, Operations Support Group, Eastern Service Center, Air Traffic Organization.

[FR Doc. E9-10372 Filed 5-5-09; 8:45 am]

BILLING CODE 4910-13-P